DEPARTMENT OF HOMELAND SECURITY

Coast Guard

33 CFR Part 165

[COTP Tampa-03-006]

RIN 1625-AA00

Security Zones; Tampa Bay, Port of Tampa, Port of Saint Petersburg, Port Manatee, Rattlesnake, Old Port Tampa, Big Bend, Weedon Island, and Crystal River, FL; Correction

AGENCY: Coast Guard, DHS.

ACTION: Temporary final rule; correction.

SUMMARY: The Coast Guard published a final rule on March 25, 2003 establishing security zones in Tampa Bay, Port of Tampa, Port of Saint Petersburg, Port Manatee, Rattlesnake, Old Port Tampa, Big Bend, Weedon Island, and Crystal River, Florida. The rule erroneously listed the geographic positions, descriptions, and size of security zones located in the waters adjacent to the Big Bend and Weedon Island power facilities. This document corrects the geographic positions, descriptions, and size of those security zones.

DATES: This correction is effective on April 9, 2003.

FOR FURTHER INFORMATION CONTACT: LCDR Dave McClellan, Coast Guard Marine Safety Office, Tampa at (813)228-2189/91 X 102.

SUPPLEMENTARY INFORMATION:

Background and Purpose

The Coast Guard published a final rule in the Federal Register of March 25, 2003 (68 FR 14328) establishing security zones in Tampa Bay, Port of Tampa, Port of Saint Petersburg, Port Manatee, Rattlesnake, Old Port Tampa, Big Bend, Weedon Island, and Crystal River, Florida. In our discussion of the rule and in paragraph (a)(14) of that rule, the geographic position, description, and size of the security zone for the Big Bend Power Facility were erroneously published as:

(14) Big Bend, Tampa Bay, Florida. All waters of Tampa Bay, from surface to bottom, extending 50 yards from the shore, seawalls and piers around the Big Bend Power Facility, encompassed by a line connecting the following points: 27°47.85′ N, 082°25.02′ W then east and south along the shore and pile to 27°47.63′ N, 082°24.70′ W then north along the shore to 27°48.17′ N, 082°24.70′ W then north and west along a straight line to 27°48.12′ N, 082°24.88′ W then south along the shore and pile to 27°47.85′ N, 082°25.02′ W, closing off entrance to the Big Bend Power Facility.

This correction changes the geographic description and positions to:

(14) Big Bend, Tampa Bay, Florida. All waters of Tampa Bay, from surface to bottom, adjacent to the Big Bend Power Facility, and within an area bounded by a line connecting the following points: 27°47.85′ N, 082°25.02′ W then east and south along the shore and pile to 27°47.63′ N, 082°24.70′ W then north along the shore to 27°48.02′ N, 082°24.70′ W then north and est along a straight line to 27°48.12′ N, 082°4.88′ W then south along the shore and pile to 27°47.85′ N, 082°25.02′ W, closing off entrance to the Big Bend Power Facility.

In our discussion of the rule and in paragraph (a)(15) of that rule, the geographic positions and description for the Weedon Island Power Facility were erroneously published as:

(15) Weedon Island, Tampa Bay, Florida. All waters of Tampa Bay, from surface to bottom, extending 50 yards from the shore, seawall and piers around the Power Facility at Weedon Island encompassed by a line connecting the following points: 27°51.52′ N, 082°35.82′ W then north and east along the shore to 27°51.54′ N, 082°35.78′ W then north to 27°51.68′ N, 082°35.78′ W then north to 27°51.75′ N, 082°35.78′ W closing off entrance to the canal then north to 27°51.89′ N, 082°35.82′ W then east along the shore to 27°51.89′ N, 082°36.10′ W then east to 27°51.89′ N, 082°36.14′ W closing off entrance to the canal.

This correction changes the geographic description and positions to:

(15) Weedon Island, Tampa Bay, Florida. All waters of Tampa Bay, from surface to bottom, extending 50 yards from the shore, seawall and piers around the Power Facility at Weedon Island encompassed by a line connecting the following points: 27°51.52′ N, 082°35.82′ W then north and east along the shore to 27°51.54′ N, 082°35.78′ W then north to 27°51.68′ N, 082°35.78′ W then north to 27°51.75′ N, 082°35.78′ W closing off entrance to the canal then north to 27°51.89′ N, 082°35.82′ W then west along the shore to 27°51.89′ N, 082°36.10′ W then west to 27°51.89′ N, 082°36.14′ W closing off entrance to the canal.

Need for Correction

This correction is needed to correct minor discrepancies in the coordinates and physical description for fixed security zones in waters adjacent to Big Bend and Weedon Island Power facilities in Tampa Bay.

Correction of Publication

In rule FR Doc. 03-6982 published on March 25, 2003 (68 FR 14328), make the following corrections:

a. On page 14329, in the third column, on lines 42 through 46, remove the words “The security zone extends 50 yards from the shore or seawall and from all piers around facilities. The security zone is bounded by the following points” and add, in their place, the words “It includes all waters of Tampa Bay, from surface to bottom, adjacent to the Big Bend Power Facility, and within an area bounded by a line connecting the following points”.

b. On page 14329, in the third column on line 50 remove the latitude “27°48.17′ N” and add, in its place, the latitude “27°48.02′ N”.

c. On page 14329, in the third column on line 69 remove the word “east” and add, in its place, the word “west”.

d. On page 14330, in the first column on line 1 remove the word “east” and add, in its place, the word “west”. § 165.T07-006 [Corrected]

e. On page 14332, in paragraph (a)(14), remove the words “extending 50 yards from the shore, seawalls and piers around the Big Bend Power Facility, encompassed by a line connecting the following points” and add, in their place, the words “adjacent to the Big Bend Power Facility, and within an area bounded by a line connecting the following points,” and remove the latitude “27°48.17′ N” and add, in its place, the latitude “27°48.02′ N”.

f. On page 14332, in paragraph (a)(15) on lines 14 and 15 remove the word “east” and add, in its place, the word “west”.

Dated: March 27, 2003.
James M. Farley,
Captain, U.S. Coast Guard, Captain of the Port Tampa.

[FR Doc. 03-8523 Filed 4-8-03; 8:45 am]

BILLING CODE 4910-15-P